DEPARTMENT OF COMMERCE

International Trade Administration

[A-433-812, A-423-812, A-427-828, A-428-844, A-475-834, A-588-875, A-580-887, A-570-047, A-583-858]

Certain Carbon and Alloy Steel Cut-to-Length Plate From Austria, Belgium, France, the Federal Republic of Germany, Italy, Japan, the Republic of Korea, the People's Republic of China, and Taiwan: Postponement of Preliminary Determinations of Antidumping Duty Investigations

AGENCY: Enforcement and Compliance, International Trade Administration, Department of Commerce

DATES: Effective August 29, 2016.

FOR FURTHER INFORMATION CONTACT: Edythe Artman at (202) 482-3931 (Austria), Elizabeth Eastwood at (202) 482-3874 (Belgium and Italy), Terre Keaton Stefanova at (202) 482-1280 (France), Brandon Custard at (202) 482-1823 (Federal Republic of Germany (Germany)), Kabir Archuletta at (202) 482-2593 (Japan), Mike Heaney at (202) 482-4475 (Republic of Korea (Korea)), Irene Gorelik at (202) 482-6905 (the People's Republic of China (the PRC)), or Tyler Weinhold at (202) 482-1121 (Taiwan); AD/CVD Operations, Enforcement and Compliance, International Trade Administration, U.S. Department of Commerce, 14th Street and Constitution Avenue NW., Washington, DC 20230.

SUPPLEMENTARY INFORMATION:

Background

On April 28, 2016, the Department of Commerce (the Department) initiated antidumping duty (AD) investigations concerning imports of certain carbon and alloy steel cut-to-length plate (CTL plate) from Austria, Belgium, Brazil, the People's Republic of China (PRC), France, the Federal Republic of Germany (Germany), Italy, Japan, the Republic of Korea (Korea), South Africa, Taiwan, and the Republic of Turkey.¹ Section 733(b)(1)(A) of the Tariff Act of 1930, as amended (the Act), and 19 CFR 351.205(b)(1) state the Department will make a preliminary determination no later than 140 days after the date of the initiation. The current deadline for the preliminary determinations of these investigations is no later than September 15, 2016.

¹ See Certain Carbon and Alloy Steel Cut-To-Length Plate From Austria, Belgium, Brazil, France, the Federal Republic of Germany, Italy, Japan, the Republic of Korea, the People's Republic of China, South Africa, Taiwan, and the Republic of Turkey: Initiation of Less-Than-Fair-Value Investigations, 81 FR 27089 (May 5, 2016).

Postponement of Preliminary Determinations

On August 15, 2016, ArcelorMittal USA LLC, Nucor Corporation, and SSAB Enterprises, LLC (the petitioners) made a timely request, pursuant to 19 CFR 351.205(e), for postponement of the preliminary determinations in the investigations of CTL plate from Austria, Belgium, the PRC, France, Germany, Italy, Japan, Korea, and Taiwan, in order to provide the Department with sufficient time to develop the record in these proceedings through additional questionnaires, which the petitioners will in turn need time to analyze and comment on.² Because there are no compelling reasons to deny the petitioners' request, in accordance with section 733(c)(1)(A) of the Act, the Department is postponing the deadline for the preliminary determinations by 50 days.

² See Certain Carbon and Alloy Steel Cut-to-Length Plate from Austria, Belgium, China, France, Germany, Italy, Japan, Korea, and Taiwan—Petitioners' Request for an Extension of the Department's Preliminary Antidumping Duty Determinations, dated August 15, 2016.

For the reasons stated above, the Department, in accordance with section 733(c)(1)(A) of the Act, is postponing the deadline for the preliminary determinations to no later than 190 days after the date on which the Department initiated these investigations. Therefore, the new deadline for the preliminary determinations is November 4, 2016. In accordance with section 735(a)(1) of the Act, the deadline for the final determinations of these investigations will continue to be 75 days after the date of the preliminary determinations, unless postponed at a later date.

This notice is issued and published pursuant to section 733(c)(2) of the Act and 19 CFR 351.205(f)(1).

Dated: August 22, 2016.
Paul Piquado,
Assistant Secretary for Enforcement and Compliance.

[FR Doc. 2016-20694 Filed 8-26-16; 8:45 am]

BILLING CODE 3510-DS-P